DEPARTMENT OF COMMERCE

International Trade Administration

[A-570-848]

Freshwater Crawfish Tail Meat From the People's Republic of China: Extension of Time Limit for Preliminary Results of New Shipper Review

AGENCY: Import Administration, International Trade Administration, U.S. Department of Commerce.

SUMMARY: The Department of Commerce is extending the time limit for issuing the preliminary results of the new shipper review of Shanghai Ocean Flavor International Trading Co., Ltd. (Shanghai Ocean Flavor) under the antidumping duty order on freshwater crawfish tail meat from the People's Republic of China until no later than February 24, 2004. The period of review is September 1, 2002, through February 28, 2003. This extension is made pursuant to section 751(a)(2)(B)(iv) of the Tariff Act of 1930, as amended.

EFFECTIVE DATE: September 15, 2003.

FOR FURTHER INFORMATION CONTACT: Thomas Gilgunn or Addilyn Chams-Eddine, AD/CVD Enforcement Office 7, Import Administration, International Trade Administration, U.S. Department of Commerce, 14th Street and Constitution Avenue, N.W., Washington D.C. 20230; telephone: (202) 482-4236 or (202) 482-0648, respectively.

SUPPLEMENTARY INFORMATION:

Time Limits

Section 351.214(i) of the regulations requires the Department to issue the preliminary results of a new shipper review within 180 days after the date on which the new shipper review was initiated, and final results of review within 90 days after the date on which the preliminary results were issued. However, if the Department determines the issues are extraordinarily complicated, section 351.214(i)(2) of the regulations allows the Department to extend the deadline for the preliminary results to up to 300 days after the date on which the new shipper review was initiated.

Background

On March 28, 2003 the Department received a timely request from Shanghai Ocean Flavor, in accordance with section 751(a)(2)(B) of the Act and section 351.214(c) of the regulations, for a new shipper review of the antidumping duty order on freshwater crawfish tail meat from the People's Republic of China (“PRC”), which has a September anniversary date. On April 30, 2003 the Department initiated this new shipper review covering the period September 1, 2002 through February 28, 2003. See Freshwater Crawfish Tail Meat From the People's Republic of China: Initiation of New Shipper Antidumping Review (68 FR 23962). The preliminary results of review are currently due October 27, 2003.

Extension of Time Limit for Preliminary Results

Pursuant to section 751(a)(2)(B)(iv) of the Act, the Department may extend the deadline for completion of the preliminary results of a new shipper review if it determines that the case is extraordinarily complicated. The Department has determined that this case is extraordinarily complicated, and the preliminary results of this new shipper review cannot be completed within the statutory time limit of 180 days. The Department finds that this new shipper review is extraordinarily complicated because there are a number of issues that must be addressed. For example, the Department issued a supplemental questionnaire regarding possible affiliations as well as supplemental questions regarding the importer of the subject merchandise. This information may necessitate a request of additional information from Shanghai Ocean Flavor and its importer. Therefore, in accordance with section 351.214(i)(2) of the regulations, the Department is extending the time limit for the completion of preliminary results by 120 days. The preliminary results are now due no later than February 24, 2004.

This notice is published pursuant to sections 751(a)(2)(B) and 777(i)(1) of the Act.

Dated: September 9, 2003.
Joseph A. Spetrini,
Deputy Assistant Secretary for Import Administration, Group III.

[FR Doc. 03-23460 Filed 9-12-03; 8:45 am]

BILLING CODE 3510-DS-S